POSTAL SERVICE

Postal Service Licensing Program

ACTION: Notice.

SUMMARY: The Postal Service is publishing notice that it has amended its Administrative Support Manual to include policy and information about the Postal Service's licensing policy and program.

DATES: The amendments to the Administrative Support Manual (ASM) are effective when published in the Postal Bulletin (issue 22082) on August 8, 2002.

ADDRESSES: Parties interested in reviewing these amendments may find them online at http://www.usps.com/cpim/ftp/bulletin/pb.htm.

FOR FURTHER INFORMATION CONTACT: Maria Pell, Senior Licensing Specialist, 202-268-6745.

SUPPLEMENTARY INFORMATION:

Discussion of Amendments

The Postal Service is adding ASM subchapter 66, Licensing, to include the Postal Service's licensing policy and information about the licensing program. Specifically, we:

• Added ASM section 333.647 to include a reference to the licensing policy in section 333.6, Endorsement of Nonpostal Products, Services, or Business. The reference is to remind employees to refer to and follow the appropriate policy if a company approaches them about manufacturing or distributing merchandise bearing USPS marks.

• Added ASM part 661 to include the responsibilities and authority of the Licensing group.

• Added ASM section 662.1, to describe the requirements of the licensing program as it relates to Postal Service employees making official purchases of merchandise that display a Postal Service trademark, stamp design, or other pictorial or graphic image that the Postal Service owns or uses.

• Added ASM section 662.2 to provide the definition of officially-licensed merchandise.

• Included a licensing handbook for Postal Service employees who work in the field [Licensing: Field Handbook of Frequently Asked Questions (FAQs)] and a list of the Postal Service's licensees, which will be updated monthly in the Postal Bulletin.

Stanley F. Mires,
Chief Counsel, Legislative.

[FR Doc. 02-20392 Filed 8-9-02; 8:45 am]

BILLING CODE 7710-12-P